DEPARTMENT OF THE TREASURY

Office of Thrift Supervision

[AC-7: OTS Nos. H-3738, H-3739, and 05798]

First Charter, MHC, West Point, Georgia, Charter Financial Corporation, West Point, Georgia; Approval of Mutual Holding Company Reorganization

Notice is hereby given that on August 10, 2001, the Deputy Director, Office of Thrift Supervision, or his designee, acting pursuant to delegated authority, approved the applications of CharterBank, West Point, Georgia (the “Savings Bank”) to reorganize into mutual holding company form (the “Notice”) with a mid-tier holding company (“Charter Financial Corporation”); and the application of Charter Financial Corporation to acquire Charter Insurance Company as a wholly owned subsidiary. Copies of the applications and Notice are available for inspection at the Dissemination Branch, Office of Thrift Supervision, 1700 G Street, NW., Washington, DC 20552, and the Southeast Regional Office, Office of Thrift Supervision, 1475 Peachtree Street, NW., Atlanta, GA 30309.

Dated: August 15, 2001.
By the Office of Thrift Supervision.
Nadine Y. Washington,
Corporate Secretary.

[FR Doc. 01-20981 Filed 8-20-01; 8:45 am]

BILLING CODE 6702-01-M